NATIONAL ARCHIVES AND RECORDS ADMINISTRATION

Agency Information Collection Activities: Proposed Collection; Comment Request

AGENCY: National Archives and Records Administration (NARA).

ACTION: Notice.

SUMMARY: NARA is giving public notice that the agency proposes to request use of the Financial Disclosure Form, a new Standard Form, that will be used to make personnel security determinations, including whether to grant a security clearance, to allow access to classified information, sensitive areas, and equipment; or to permit assignment to a sensitive national security position. The public is invited to comment on the proposed information collection pursuant to the Paperwork Reduction Act of 1995.

DATES: Written comments must be received on or before August 11, 2003 to be assured of consideration.

ADDRESSES: Comments should be sent to: Paperwork Reduction Act Comments (NHP), Room 4400, National Archives and Records Administration, 8601 Adelphi Rd, College Park, MD 20740-6001; or faxed to 301-837-3213; or electronically mailed to tamee.fechhelm@nara.gov.

FOR FURTHER INFORMATION CONTACT: Requests for additional information or copies of the proposed information collection and supporting statement should be directed to Tamee Fechhelm at telephone number 301-837-1694, or fax number 301-837-3213.

SUPPLEMENTARY INFORMATION: Pursuant to the Paperwork Reduction Act of 1995 (Pub. L. 104-13), NARA invites the general public and other Federal agencies to comment on proposed information collections. The comments and suggestions should address one or more of the following points: (a) whether the proposed information collection is necessary for the proper performance of the functions of NARA; (b) the accuracy of NARA's estimate of the burden of the proposed information collection; (c) ways to enhance the quality, utility, and clarity of the information to be collected; and (d) ways, including the use of information technology, to minimize the burden of the collection of information on respondents. The comments that are submitted will be summarized and included in the NARA request for Office of Management and Budget (OMB) approval. All comments will become a matter of public record. In this notice, NARA is soliciting comments concerning the following information collection:

Title: Financial Disclosure Form.

OMB number: 3095-NEW.

Agency form number: Standard Form NEW.

Type of review: Regular.

Affected public: Business or other for-profit, Federal government.

Estimated number of respondents: 25,897.

Estimated time per response: 2 hours.

Frequency of response: On occasion.

Estimated total annual burden hours: 51,794 hours.

Abstract: Executive Order 12958 as amended, “Classified National Security Information” authorizes the Information Security Oversight Office (ISOO) to develop standard forms that promote the implementation of the Government's security classification program. This is a continuing authority, which was first given to ISOO with the issuance of the predecessor executive order on security classification, Executive Order 12356. Prior to E.O. 12356, executive branch agencies developed their own forms to address security needs. For example, each agency had a different cover sheet for each of the classification levels. With the issuance of Standard Forms SF 703, 704 and 705 in 1985, executive branch agencies began using the same standard form to serve as a shield to protect classified information at the Top Secret, Secret and Confidential levels. These forms promoted and continue to promote consistency and uniformity in the protection of classified information. An individual can go from one agency to another and know that an orange cover sheet has Top Secret information attached to it (SF 703).

In the wake of the Aldrich Ames espionage case, Congress passed legislation in 1994 (50 U.S.C. 436) that authorized investigative agencies to obtain financial information about Government employees with access to classified information who are suspected of compromising classified information. To facilitate investigations and as a condition for obtaining a security clearance, Executive Order 12968, “Access to Classified Information,” issued on August 4, 1995, required: (1) All employees granted access to classified information to provide written consent (SF 713) for access to certain financial records under specified conditions; and (2) that employees who have regular access to particularly sensitive classified information submit, as a condition of maintaining access to such information, relevant information concerning their financial condition as may be necessary to ensure appropriate security. The Security Policy Board, created in 1993 by Presidential Directive to consolidate security policy groups and abolished in February, 2001 by National Security Presidential Directive Number 1, originally developed a draft consent form and a draft financial disclosure form after lengthy meetings/negotiations with the major classifying agencies.

Under the new policy coordinating structure created by National Security Presidential Directive 1 of April 21, 2001, several policy coordinating committees (PCCs) were established to serve as the main “day-to-day” forum for interagency coordination of national security policy. The PCC on Records Access and Information Security is the PCC that handles security classification and personnel security matters. It is this PCC that resurrected the Financial Disclosure Form to solicit views from its members and to obtain final approval. The members of this PCC include NSC as Chairman, NSC as Executive Secretary, Department of Defense, Director Central Intelligence Agency, Department of State, Department of Justice, Department of Energy, Office of Management and Budget, Information Security Oversight Office and an industry observer. The Director of Records Access at the NSC chairs this committee. All members unanimously endorsed the Financial Disclosure Form now submitted for processing as a Standard Form.

The Financial Disclosure Form will contain information that will be used to make personnel security determinations, including whether to grant a security clearance; to allow access to classified information, sensitive areas, and equipment; or to permit assignment to sensitive national security positions. The data may later be used as a part of a review process to evaluate continued eligibility for access to classified information or as evidence in legal proceedings.

The Financial Disclosure Form will help law enforcement obtain pertinent information in the preliminary stages of potential espionage and counter terrorism cases. The PCC on Records Access and Information Security forwarded the current form to the Information Security Oversight Office for issuance. The Office of Management and Budget is aware of the form.

Dated: June 2, 2003.
L. Reynolds Cahoon,
Assistant Archivist for Human Resources and Information Services.

[FR Doc. 03-14530 Filed 6-9-03; 8:45 am]

BILLING CODE 7515-01-P